DEPARTMENT OF ENERGY

Federal Energy Regulatory Commission

Combined Notice of Filings #2

Take notice that the Commission received the following electric rate filings:

Docket Numbers: ER13-521-002; ER13-520-002; ER13-1442-002; ER13-1441-002; ER13-1273-002; ER13-1272-002; ER13-1271-002; ER13-1270-002; ER13-1269-002; ER13-1268-002; ER13-1267-002; ER13-1266-003; ER12-21-013; ER12-1626-003; ER10-3246-003; ER10-2605-006; ER10-2475-006; ER10-2474-006; EL15-22-000.

Applicants: Nevada Power Company, Sierra Pacific Power Company, PacifiCorp, Agua Caliente Solar, LLC, Pinyon Pines Wind I, LLC, Pinyon Pines Wind II, LLC, Solar Star California XIX, LLC, Solar Star California XX, LLC, Topaz Solar Farms LLC, CalEnergy, LLC, CE Leathers Company, Del Ranch Company, Elmore Company, Fish Lake Power LLC, Salton Sea Power Generation Company, Salton Sea Power L.L.C., Vulcan/BN Geothermal Power Company, Yuma Cogeneration Associates, MidAmerican Energy Company, Bishop Hill Energy II LLC, Cordova Energy Company LLC, Power Resources, Ltd., Saranac Power Partners, L.P.

Description: Supplemental Filing of WorkPapers of the BHE MBR Sellers.

Filed Date: 9/8/15.

Accession Number: 20150909-0026.

Comments Due: 5 p.m. ET 9/29/15.

Docket Numbers: ER15-2338-001.

Applicants: Midcontinent Independent System Operator, Inc., Ameren Transmission Company of Illinois.

Description: Tariff Amendment: 2015-09-10_ATXI Supplemental Depreciation Rate Filing to be effective 10/1/2015.

Filed Date: 9/10/15.

Accession Number: 20150910-5110.

Comments Due: 5 p.m. ET 9/17/15.

Docket Numbers: ER15-2638-000.

Applicants: Louisville Gas and Electric Company.

Description: § 205(d) Rate Filing: Modifications to Attachment C to be effective 11/10/2015.

Filed Date: 9/10/15.

Accession Number: 20150910-5112.

Comments Due: 5 p.m. ET 10/1/15

Docket Numbers: ER15-2639-000.

Applicants: CenterPoint Energy Houston Electric, LLC.

Description: § 205(d) Rate Filing: TFO Tariff Interim Rate Revision to Conform with PUCT-Approved ERCOT Rate to be effective 8/17/2015.

Filed Date: 9/10/15.

Accession Number: 20150910-5137.

Comments Due: 5 p.m. ET 10/1/15.

Docket Numbers: ER15-2640-000.

Applicants: New York Independent System Operator, In.

Description: § 205(d) Rate Filing: NYISO 205 filing of tariff revision to implement external CTS with ISO-NE to be effective 12/31/9998.

Filed Date: 9/10/15.

Accession Number: 20150910-5138.

Comments Due: 5 p.m. ET 10/1/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 10, 2015.
Nathaniel J. Davis, Sr.,
Deputy Secretary.

[FR Doc. 2015-23982 Filed 9-21-15; 8:45 am]

BILLING CODE 6717-01-P